DEPARTMENT OF THE INTERIOR

Fish and Wildlife Service

50 CFR Part 17

[Docket No. FWS-R1-ES-2013-0013; 4500030113; Docket No. FWS-R1-ES-2013-0088; 4500030114]

RIN 1018-AZ04; RIN 1018-AZ56

Endangered and Threatened Wildlife and Plants; Threatened Status and Designation of Critical Habitat for Oregon Spotted Frog (Rana pretiosa)

AGENCY: Fish and Wildlife Service, Interior.

ACTION: Proposed rule; extension of public comment period and notice of public hearing.

SUMMARY: We, the U.S. Fish and Wildlife Service (Service), recently published a proposed listing and proposed designation of critical habitat for the Oregon spotted frog (Rana pretiosa) under the Endangered Species Act of 1973, as amended (Act), and announced a 60-day public comment period on the proposed actions, ending October 28, 2013. We now extend the public comment period to November 12, 2013, and announce notice of a public hearing on our proposed rules. We are extending the public comment period to allow all interested parties additional time to comment on the proposed rules.

DATES: Written Comments: The comment period for the proposed rules published August 29, 2013 (78 FR 53582 and 78 FR 53538) is extended. We will consider comments received or postmarked on or before November 12, 2013, or at the public hearing. Please note comments submitted electronically using the Federal eRulemaking Portal (see ADDRESSES) must be received by 11:59 p.m. Eastern Time on the closing date. Any comments that we receive after the closing date may not be considered in the final decisions on these actions.

Public Hearing: We will hold one public hearing on Monday, October 21, 2013. The hearing will occur from 3 p.m. to 5 p.m. and will continue from 6 p.m. to 8 p.m.

ADDRESSES: Document Availability: You may obtain copies of the proposed rule at http://www.regulations.gov at Docket No. FWS-R1-ES-2013-0013 (proposed listing) and Docket No. FWS-R1-ES-2013-0088 (proposed designation of critical habitat); from the Washington Fish and Wildlife Office's Web site (http://www.fws.gov/wafwo); or by contacting the Washington Fish and Wildlife Office directly (see FOR FURTHER INFORMATION CONTACT).

Public Hearing: The public hearing for the Oregon spotted frog will be held on Monday, October 21, 2013, at Norman Worthington Conference Center at St. Martin's University, 5300 Pacific Avenue SE., Lacey, Washington 98503. People needing reasonable accommodation in order to attend and participate in either public hearing should contact Ken Berg, Manager, Washington Fish and Wildlife Office, as soon as possible (see FOR FURTHER INFORMATION CONTACT).

Comment submission: You may submit written comments by one of the following methods:

(1) Electronically: Go to the Federal eRulemaking Portal: http://www.regulations.gov. Submit comments on the proposed listing rule to FWS-R1-ES-2013-0013. Submit comments on the proposed critical habitat rule to FWS-R1-ES-2013-0088.

(2) By hard copy:

Submit comments on the proposed listing rule by U.S. mail or hand-delivery to: Public Comments Processing, Attn: FWS-R1-ES-2013-0013; Division of Policy and Directives Management; U.S. Fish and Wildlife Service; 4401 N. Fairfax Drive, MS 2042-PDM; Arlington, VA 22203.

Submit comments on the proposed critical habitat rule by U.S. mail or hand-delivery to: Public Comments Processing, Attn: FWS-R1-ES-2013-0088; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Ken S. Berg, Manager, Washington Fish and Wildlife Office, 510 Desmond Drive, Suite 102, Lacey, WA 98503-1263; by telephone (360) 753-9440; or by facsimile (360) 534-9331. Persons who use a telecommunications device for the deaf (TDD) may call the Federal Information Relay Service (FIRS) at 800-877-8339.

SUPPLEMENTARY INFORMATION:

Public Comments

We are extending the public comment period for 15 days on our proposed listing and proposed designation of critical habitat for the Oregon spotted frog that were published in the Federal Register on August 29, 2013 (78 FR 53582 and 78 FR 53538), to allow all interested parties additional time to comment on the proposed rules. We will accept written comments and information until November 12, 2013, or at the public hearing. We will consider all information and recommendations from all interested parties.

For additional details on specific information we are requesting, please see the Information Requested sections in our proposed listing (78 FR 53582) and proposed critical habitat designation (78 FR 53538) for the Oregon spotted frog that were published in the Federal Register on August 29, 2013.

You may submit your comments and materials concerning the proposed rules by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2013-0013 for the proposed listing action and at Docket No. FWS-R1-ES-2013-0088 for the proposed critical habitat designation, or by appointment, during normal business hours, at the U.S. Fish and Wildlife Service, Washington Fish and Wildlife Office (see FOR FURTHER INFORMATION CONTACT).

Authority: The authority for this action is the Endangered Species Act of 1973, as amended (16 U.S.C. 1531 et seq.).

Dated: September 18, 2013.
Michael Bean,
Acting Principal Deputy Assistant Secretary for Fish and Wildlife and Parks.

[FR Doc. 2013-23410 Filed 9-25-13; 8:45 am]

BILLING CODE 4310-55-P